NUCLEAR REGULATORY COMMISSION

[Docket No. 50-156; NRC-2010-0203]

University of Wisconsin; Notice of Issuance of Renewed Facility License No. R-74

The U.S. Nuclear Regulatory Commission (NRC, the Commission) has issued renewed Facility License No. R-74, held by the University of Wisconsin (the licensee), which authorizes continued operation of the University of Wisconsin Nuclear Reactor (UWNR), located in Madison, Dane County, Wisconsin. The UWNR is a pool-type, light-water-moderated and cooled TRIGA (Training, Research, Isotope Production, General Atomics) reactor licensed to operate at a steady-state power levels up to and including 1 megawatt thermal and short duration power pulses with reactivity insertions up to 1.4% Δk/k. The renewed Facility License No. R-74 will expire at midnight 20 years from its date of issuance.

The renewed facility license complies with the standards and requirements of the Atomic Energy Act of 1954, as amended (the Act), and the Commission's rules and regulations. The Commission has made appropriate findings as required by the Act and the Commission's regulations in Title 10, Chapter 1, “Nuclear Regulatory Commission,” of the Code of Federal Regulations (10 CFR), and sets forth those findings in the renewed facility license. The agency afforded an opportunity for hearing in the Notice of Opportunity for Hearing published in the Federal Register on June 18, 2010 (75 FR 34769-34774). The NRC received no request for a hearing or petition for leave to intervene following the notice.

The NRC staff prepared a safety evaluation report for the renewal of Facility License No. R-74 and concluded, based on that evaluation, the licensee can continue to operate the facility without endangering the health and safety of the public. The NRC staff also prepared an Environmental Assessment and Finding of No Significant Impact for the renewal of the facility license, noticed in the Federal Register on September 16, 2010 (75 FR 56597-56601), and concluded that renewal of the facility license will not have a significant impact on the quality of the human environment.

For details with respect to the application for renewal, see the licensee's letter dated May 9, 2000 (ML093570404), as supplemented on September 7, 2004 (ML093570441); October 17, 2008 (ML100740573); June 16, 2010 (two letters, ML101690137 and ML101690083), July 8, 2010 (ML102110051), August 11, 2010 (ML102320209), November 22, 2010 (ML103300040), December 8, 2010 (ML103480028); January 28, 2011 (ML110340310), and February 8, 2011 (ML110410534). Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the NRC Web site, http://www.nrc.gov/reading-rm/adams.html. Persons who do not have access to ADAMS or who encounter problems in accessing the documents located in ADAMS should contact the NRC PDR Reference staff at 1-800-397-4209 or 301-415-4737, or send an e-mail to pdr@nrc.gov.

Dated at Rockville, Maryland, this 25th day of March 2011.
For the Nuclear Regulatory Commission
Jessie Quichocho,
Chief, Research and Test Reactors Licensing Branch, Division of Policy and Rulemaking, Office of Nuclear Reactor Regulation.

[FR Doc. 2011-7720 Filed 3-31-11; 8:45 am]

BILLING CODE 7590-01-P